DEPARTMENT OF DEFENSE

Department of the Army; Corps of Engineers

Intent To Prepare a Draft Environmental Impact Statement for the Raritan and Sandy Hook Bay, Combined Erosion and Storm Damage Reduction Project, Borough of Highlands, Monmouth County, NJ

Correction

In notice document 03-20265 beginning on page 47299 in the issue of Friday, August 8, 2003, make the following correction:

On page 47300, in the first column, in the first full paragraph, in the third line from the bottom, “1966” should read “1996”.

[FR Doc. C3-20265 Filed 8-13-03; 8:45 am]

BILLING CODE 1505-01-D